DEPARTMENT OF HOUSING AND URBAN DEVELOPMENT

[Docket No. FR-5300-N-05]

Notice of Availability: Notice of Funding Availability (NOFA) for Fiscal Year (FY) 2009 Indian Community Development Block Grant (ICDBG) Program for Indian Tribes and Alaska Native Villages

AGENCY: Office of the Assistant Secretary for Public and Indian Housing, Office of Native American Programs, HUD.

ACTION: Notice.

SUMMARY: HUD announces the availability of funds and the funding criteria for the Fiscal Year (FY) 2009 Indian Community Development Block Grant (ICDBG) Program for Indian Tribes and Alaska Native Villages. The Notice of Funding Availability (NOFA) makes approximately $65 million available under the Department of Housing and Urban Development Appropriations Act 2009 (Pub. L. 111-8, approved March 11, 2009). Applicants for assistance under this NOFA must address applicable requirements in the FY 2009 ICDBG NOFA and the Notice of HUD's Fiscal Year 2009 Notice of Funding Availability (NOFA) Policy Requirements and General Section to the HUD's FY2009 NOFAs for Discretionary Programs; Notice (also known as the General Section) published on December 29, 2008 (73 FR 79548), as amended on April 16, 2009 (74 FR 17685). Applicants should take particular note that they should follow the application submission instructions contained in the NOFA and not use those in the General Section. The notice providing information regarding the application process, funding criteria and eligibility requirements is available on the HUD Web site at http://www.hud.gov/offices/pih/ih/grants/icdbgl.cfm.

FOR FURTHER INFORMATION CONTACT: Questions regarding specific program requirements should be directed to your Area Office of Native American Programs. A contact list for each Area ONAP can be accessed at http://www.hud.gov/offices/pih/ih/codetalk/onap/map/nationalmap.cfm. Persons with speech or hearing impairments may access this telephone number via TTY by calling the toll-free Federal Information Relay Service during working hours at 800-877-8339.

Dated: May 18, 2009.
Paula O. Blunt,
General Deputy Assistant Secretary for Public and Indian Housing.

[FR Doc. E9-13081 Filed 6-1-09; 4:15 pm]

BILLING CODE 4210-67-P